DEPARTMENT OF AGRICULTURE

Office of the Secretary

Request for Nominations of Members for the Citrus Disease Subcommittee

AGENCY: Office of the Chief Scientist, USDA.

ACTION: Solicitation for membership.

SUMMARY: In accordance with the Federal Advisory Committee Act, the U.S. Department of Agriculture (USDA) announces the opening of the solicitation for nominations to fill vacancies on the National Agricultural Research, Extension, Education, and Economics (NAREEE) Advisory Board—Citrus Disease Subcommittee. There are three vacancies on the Citrus Disease Subcommittee.

DATES: USDA will consider nominations received by December 19, 2020.

ADDRESSES: Due to COVID-19, we ask that you email all correspondence to the email in this notice to ensure receipt of nomination packages. Please email the nominee's name, resume or CV, completed and signed Form AD-755, and any letters of support to nareee@usda.gov.

FOR FURTHER INFORMATION CONTACT: Kate Lewis, Director, National Agricultural Research, Extension, Education, and Economics Advisory Board, 1400 Independence Avenue SW, Room 332A, The Whitten Building, Washington, DC 20250-2255; telephone: 202-631-1434 or email: nareee@usda.gov. Committee website: https://nareeeab.ree.usda.gov/.

SUPPLEMENTARY INFORMATION: Instructions for Nominations: Nominations are solicited from organizations, associations, societies, councils, federations, groups, and companies that represent a wide variety of food and agricultural interests throughout the country.

Nominees may be considered for the NAREEE Advisory Board and or a subcommittee and may be considered for more than one category and/or subcommittee dependent on the nominee's qualifications. Each nominee must submit a signed form AD-755, “Advisory Committee Membership Background Information,” which can be obtained from the contact person above or from: https://www.ocio.usda.gov/sites/default/files/docs/2012/AD-755%20-%20Approved%20Master%202015.pdf. A resume or CV should also be submitted. Letters of nomination or support are encouraged.

Nominations are open to all individuals without regard to race, color, religion, sex, national origin, age, mental or physical handicap, marital status, or sexual orientation. To ensure the recommendation of the Advisory Board takes into account the needs of the diverse groups served by the USDA, membership shall include, to the extent practicable, individuals with demonstrated ability to represent the needs of all racial and ethnic groups, women and men, and persons with disabilities.

Please note, individuals may not serve on more than one USDA Federal Advisory Committee. Individuals, who are lobbyists, appointed to committees to exercise their own individual best judgment on behalf of the government (e.g., as Special Government Employees) are ineligible to serve.

All nominees will be carefully reviewed for their expertise, leadership, and relevance. Appointed members will serve two-, or three-year terms in order to properly stagger term rotation. All nominees will be vetted before selection. Appointments to the NAREEE Advisory Board and its subcommittees will be made by the Secretary of Agriculture.

Citrus Disease Subcommittee: The Citrus Disease Subcommittee was established by the Agricultural Act of 2014 (Sec. 7103) to advise the Secretary of Agriculture on citrus research, extension, and development needs, engage in regular consultation and collaboration with USDA and other organizations involved in citrus, and provide recommendations for research and extension activities related to citrus disease. The Citrus Disease Subcommittee will also advise the Department on the research and extension agenda of the Emergency Citrus Disease Research and Extension Program, a grant program of the National Institute of Food and Agriculture. Section 1408(a)(2) of the Agricultural Improvement Act of 2018 amended the membership of the Citrus Disease Subcommittee to increase the number of members from 9 members to 11. Members must be a producer of citrus with representation from the following States: Five members from Arizona or California, five members from Florida, and one member from Texas.

The Citrus Disease Subcommittee is soliciting nominations to fill three vacant positions for membership:

• Two positions to represent Florida, and

• one position to represent California or Arizona.

All nominees will be carefully reviewed for their expertise, leadership, and relevance to a category.

Done at Washington, DC, this day of November 2, 2020.
Steve Censky,
Deputy Secretary, U.S. Department of Agriculture.

[FR Doc. 2020-24925 Filed 11-18-20; 8:45 am]

BILLING CODE 3410-03-P